DEPARTMENT OF AGRICULTURE

Rural Housing Service

Announcement of Funding To Develop Essential Community Facilities in Rural Communities for Eligible Public Entities, Nonprofit Organizations, and Tribal Governments

AGENCY: Rural Housing Service, USDA.

ACTION: Notice.

SUMMARY: The Rural Housing Service (RHS) announces the availability of $50 million for rural community facilities described in section 381E(d)(1) of the Consolidated Farm and Rural Development Act (7 U.S.C. 2009d). Under the Rural Community Advancement Program (RCAP) for fiscal year (FY) 2001, Congress designated $50 million to the Community Facilities loan and grant programs of which $25 million is reserved for assistance to areas in North Carolina which have been declared a disaster area because of Hurricanes Floyd, Dennis, or Irene. The purpose of the funding is to provide assistance to areas in the State of North Carolina, subject to a declaration of a major disaster under the Presidential Declared Disasters as reported by the Federal Emergency Management Agency (FEMA). The Rural Housing Service will provide the additional $25 million to other States with Presidentially or Secretarially declared disasters. We will refer to the funds set aside for disaster designated counties in North Carolina impacted by Hurricanes Floyd, Dennis, or Irene as the “North Carolina Emergency Supplemental Program.” We will refer to funds set aside for other declared disaster areas as “Emergency Supplemental Program” funds.

DATES: To compete for Emergency Supplemental Program funds, applications must be submitted to the Rural Development State Office by 4 p.m. eastern standard time on May 11, 2001, for the first window and by 4 p.m. eastern standard time on August 17, 2001, for the second window. If a major disaster occurs during this fiscal year, Agency officials may modify these deadlines.

ADDRESSES: Entities wishing to apply for assistance are encouraged to contact their local USDA Rural Development Office for further information on the application process. A listing of Rural Development State offices, their addresses, telephone numbers, and a person to contact follows:

Note: Telephone numbers listed are not toll-free.

Alabama State Office, Suite 601, Sterling Centre, 4121 Carmichael Road, Montgomery, AL 36106-3683, 334-279-3400, Chris Harmon

Alaska State Office, 800 W. Evergreen, Suite 201, Palmer, AK 99645-6539, 907-761-7705, Merlaine Kruse

Arizona State Office, Phoenix Corporate Center, 3003 North Central Avenue, Suite 900, Phoenix, AZ 85012-2906, 602-280-8700, Leonard Gradillas

Arkansas State Office, 700 W. Capitol Avenue, Room 3416, Little Rock, AR 72201-3225, 501-792-5800, Jesse G. Sharp

California State Office, 430 G Street, #4169, Davis, CA 95616-4169, 530-792-5800, Robert Longman

Colorado State Office, 655 Parfet Street, Room E100, Lakewood, CO 80215, 303-236-2801, Leroy Cruz

Delaware State Office (The Delaware State Office also administers the Maryland program), 4607 S. DuPont Highway, PO Box 400, Camden, DE 19934-9998, 302-697-4300, James E. Waters

Florida State Office (The Florida State Office also administers the Virgin Islands program), 4440 NW. 25th Place, PO Box 147010, Gainesville, FL 32614-7010, 352-338-3400, Glenn W. Walden

Georgia State Office, Stephens Federal Building, 355 E. Hancock Avenue, Athens, GA 30601-2768, 706-546-2162, Jerry Thomas

Hawaii State Office, Room 311, Federal Building, 154 Waianuenue Avenue, Hilo, HI 96720, 808-933-8380, Thao Khamoui

Idaho State Office, 9173 W. Barnes Drive, Suite A1, Boise, ID 83709, 208-378-5600, Dan Fraser

Illinois State Office, Illini Plaza, Suite 103, 1817 South Neil Street, Champaign, IL 61820, 217-398-5235, Gerald Townsend

Indiana State Office, 5975 Lakeside Boulevard, Indianapolis, IN 46278, 317-290-3100, Gregg Delp

Iowa State Office, 873 Federal Building, 210 Walnut Street, Des Moines, IA 50309, 515-284-4663, Dorman A. Otte

Kansas State Office, 1200 SW Executive Drive, P.O. Box 4653, Topeka, KS 66604, 785-271-2700, Gary Smith

Kentucky State Office, Suite 200, 771 Corporate Drive, Lexington, KY 40503, 859-224-7300, Vernon C. Brown

Louisiana State Office, 3727 Government Street, Alexandria, LA 71302, 318-473-7920, Danny Magee

Maine State Office, 967 Illinois Avenue, Suite 4, PO Box 405, Bangor, ME 04402-0405, 207-990-9106, Alan Daigle

Massachusetts State Office (The Massachusetts State Office also administers the Rhode Island and Connecticut programs), 967 Illinois Ave., Suite 4, 451 West Street, Amherst, MA 01002, 413-253-4300, Daniel Beaudette

Michigan State Office, 3001 Coolidge Road, Suite 200, East Lansing, MI 48823, 517-324-5100, Philip H. Wolak

Minnesota State Office, 410 AgriBank Building, 375 Jackson Street, St. Paul, MN 55101-1853, 651-602-7800, James Maras

Mississippi State Office, Federal Building, Suite 831, 100 W. Capitol, Jackson, MS 39269, 601-965-4316, Darnella Smith-Murray

Missouri State Office, 601 Business Loop 70 West, Parkade Center, Suite 235, Columbia, MO 65203, 573-876-0990, Randall Griffith

Montana State Office, Unit 1, Suite B, P.O. Box 850, 900 Technology Boulevard, Bozeman, MT 59715, 406-585-2580, Mary Lou Affleck

Nebraska State Office, Federal Building, Room 152, 100 Centennial Mall N, Lincoln, NE 68508, 402-437-5551, Denise Brosius-Meeks

Nevada State Office, 1390 South Curry Street, Carson City, NV 89703-9910, 775-887-1222, Mike E. Holm

New Hampshire State Office, 10 Ferry Street, Concord Center, P.O. Box 317, Concord, New Hampshire 03301, 603-223-6045, William Konrad

New Jersey State Office, Tarnsfield Plaza, Suite 22, 790 WoodLane Road, Mt. Holly, NJ 08060, 609-265-3600, Michael P. Kelsey

New Mexico State Office, 6200 Jefferson Street NE, Room 255, Albuquerque, NM 87109, 505-761-4950, Clyde Hudson

New York State Office, The Galleries of Syracuse, 441 S. Salina Street, Suite 357, Syracuse, NY 13202-2541, 315-477-6400, Gail Giannotta

North Carolina State Office, 4405 Bland Road, Suite 260, Raleigh, NC 27609, 919-873-2000, Phyllis Godbold

North Dakota State Office, Federal Building, Room 208, 220 East Rosser, P.O. Box 1737, Bismarck, ND 58502-1737, 701-530-2037, Don Warren

Ohio State Office, Federal Building, Room 507, 200 North High Street, Columbus, OH 43215-2418, 614-255-2400, David Douglas

Oklahoma State Office, 100 USDA, Suite 108, Stillwater, OK 74074-2654, 405-742-1000, Rock W. Davis

Oregon State Office, 101 SW Main, Suite 1410, Portland, OR 97204-3222, 503-414-3300, Bill Daniels

Pennsylvania State Office, One Credit Union Place, Suite 330, Harrisburg, PA 17110-2996, 717-237-2299, Gary Rothrock

Puerto Rico State Office, IBM Building, Suite 601, 654 Munos Rivera Avenue, Hato Rey, PR 00918-6106, 787-766-5095, Pedro Gomez

South Carolina State Office, Strom Thurmond Federal Bldg., 1835 Assembly Street, Room 1007, Columbia, SC 29102, 803-765-5163, Larry Floyd

South Dakota State Office, Federal Building, Room 210, 200 Fourth Street SW., Huron, SD 57350, 605-352-1100, Dwight Wullweber

Tennessee State Office, Suite 300, 3322 West End Avenue, Nashville, TN 37203-1084, 615-783-1300, Keith Head

Texas State Office, Federal Building, Suite 102, 101 South Main, Temple, TX 76501, 254-742-9700, Mike Meehan

Utah State Office, Wallace F. Bennett, Federal Building, 125 S. State Street, Rm. 4311, P.O. Box 11350, Salt Lake City, UT 84147-0350, 801-524-4320, Jack Cox

Vermont State Office, City Center, 3rd Floor, 89 Main Street, Montpelier, VT 05602, 802-828-6000, Ronda Shippee

Virginia State Office, Culpeper Building, Suite 238, 1606 Santa Rosa Road, Richmond, VA 23229, 804-287-1550, Carrie Schmidt

Washington State Office, 1835 Black Lake Blvd. SW., Suite B, Olympia, WA 98512-5715, 360-704-7740, Jack Gleason

West Virginia State Office, Federal Building, 75 High Street, Room 320, Morgantown, WV 26505-7500, 304-284-4860, Dianne Crysler

Wisconsin State Office, 4949 Kirschling Court, Stevens Point, WI 54481, 715-345-7600, Mark Brodziski

Wyoming State Office, 100 East B, Federal Building, Room 1005, P.O. Box 820, Casper, WY 82602, 307-261-6300, John Cochran

FOR FURTHER INFORMATION CONTACT: Sharon Douglas, Community Programs, RHS, USDA, STOP 0787, 1400 Independence Ave. SW., Washington, DC 20250-0787, Telephone (202) 720-1506, Facsimile (202) 690-0471, E-mail: sdouglas@rdmail.rural.usda.gov. Information may also be obtained from the Community Facilities program website at: www.rurdev.usda.gov.

SUPPLEMENTARY INFORMATION:

Paperwork Reduction Act

The reporting requirements contained in this notice have been approved by the Office, of Management and Budget (OMB) under the provisions of 44 U.S.C. chapter 35 and have been assigned OMB control number 0575-0173, 0575-0120, and 0575-0015 in accordance with the Paperwork Reduction Act (44 U.S.C. 3501 et seq.).

Authorizing Legislation and Regulations

This program is authorized under section 306(a) of the Consolidated Farm and Rural Development Act. Program administration, eligibility, processing, and servicing requirements, which govern the Community Facilities direct loan and grant programs, may be found under 7 CFR part 1942, subparts A and C, and 7 CFR part 3570, subpart B.

Background

In the Agriculture, Rural Development, Food and Drug Administration, and Related Agencies Appropriations Act, 2001, $50 million was appropriated to the Community Facilities grant and loan programs in addition to the program's regular allocation of loan and grant funds. The Community Facilities direct loan program authorized by Congress is used to provide financial assistance in the form of direct loans to public bodies, not-for-profit organizations, or Indian tribes on Federal or State reservations. Direct loan funds are used to develop essential community facilities in rural areas.

The Community Facilities grant program, authorized by Congress in 1996, is used in conjunction with the existing direct and guaranteed loan programs for the development of essential community facilities in rural areas for public use. Funding is intended to complement rather than compete with other credit sources. Grants are made available to public entities, such as municipalities, counties, and special-service districts, as well as to eligible nonprofit corporations and tribal governments. Grants are targeted to communities with the smallest populations and lowest incomes. Communities with lower populations and income levels receive a greater percentage of the Federal contribution, between 15 to 75 percent of the cost of developing the facility.

Additional Eligibility Requirements

In addition to those requirements identified in 7 CFR part 1942, subparts A and C, and 7 CFR part 3570, subpart B, applicants interested in competing for Emergency Supplemental Program funds for FY 2001 must meet the following additional eligibility criterion:

The essential community facility must be located in a county with a disaster declared on or after September 1, 1999. You may access a list of these counties at FEMA's web site: http://www.fema.gov. Please contact the person listed previously as the FURTHER INFORMATION CONTACT for a listing of Secretarially declared disaster counties.

In addition to those requirements identified in 7 CFR part 1942, subparts A and C, and 7 CFR part 3570, subpart B, applicants interested in competing for North Carolina Emergency Supplemental Program funds for FY 2001 must meet the following eligibility criterion:

The essential community facility must be located in a county with a presidential disaster declaration resulting from Hurricanes Floyd, Dennis, or Irene.

Allocation of Funds

Twenty-five million dollars will be allocated to the State of North Carolina to assist in recovery efforts. The North Carolina Emergency Supplemental Program funds will be allocated: $10 million in budget authority for direct loan funds and $15 million in grant funds. In addition, $25 million of Emergency Supplemental Program funds will be held in a National Office reserve account to fund applications for assistance. The $25 million will be allocated in the following manner: $10 million in budget authority for direct loan funds and $15 million in grant funds.

Intake and Processing of Grant Proposals

The designated Rural Development field or State office processes the intake of all preapplications and applications.

Applicants and their governing boards should meet with Agency officials before a preapplication is filed to discuss eligibility requirements and processing procedures. Documentation submitted along with a reapplication will vary depending on the nature, scope, and complexity of the project and the various stages of application and project development. Applicants for assistance from the State of North Carolina will compete for funding on a month-to-month basis until funds are exhausted. Loan and grant funds from the Emergency Supplemental Program funds will be held in a National Office reserve. Applications will be prioritized, and funds will be obligated to eligible entities twice during the fiscal year.

Selection Process

Once a determination has been made that an applicant is eligible, the preapplication is evaluated competitively and points awarded as specified in the project selection priorities contained in 7 CFR part 1942, subparts A and C, and 7 CFR part 3570, subpart B. For Emergency Supplemental Program funds, the State Director or designee will forward the request to the National Office to compete for funding consideration. Projects will then be rated, ranked, and selections made in order of priority. For North Carolina Emergency Supplemental Program funds, the North Carolina State Director will approve funding based on the project's priority points.

Notice of Invitation To Submit Complete Application

All preapplications selected for funding consideration will be notified by the State or field office by issuing Form AD-622, “Notice of Preapplication Review Action.” At that time, the proposed recipient will be invited to submit a complete application, along with instructions related to the agreed upon award amount, and asked to schedule an application conference to discuss items needed for formal application and to further clarify issues related to the project.

Final Approval and Funding Process

Final approval is subject to the availability of funds; the submission by the applicant of a formal, complete application and related materials that meet the program requirements and responsibilities of the applicant (contained in 7 CFR part 1942, subparts A and C, and 7 CFR part 3570, subpart B); the letter of conditions; and the grant agreement.

Those preapplications that do not have sufficient priority necessary to receive funding consideration will be notified, in writing, by the State or designated field office when funds are no longer available.

Dated: March 15, 2001.
James C. Alsop,
Acting Administrator, Rural Housing Service.

[FR Doc. 01-7167 Filed 3-22-01; 8:45 am]

BILLING CODE 3410-XV-U